FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)). If the proposal also involves the acquisition of a nonbanking company, the review also includes whether the acquisition of the nonbanking company complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th Street and Constitution Avenue NW, Washington, DC 20551-0001, not later than July 30, 2020.

A. Federal Reserve Bank of San Francisco (Sebastian Astrada, Director, Applications) 101 Market Street, San Francisco, California 94105-1579:

1. Jiko Group, Inc., Berkeley, California; to become a bank holding company, by acquiring voting shares of Mid-Central Federal Savings Bank, Wadena, Minnesota, upon Mid-Central's conversion from a federal savings to a national bank. In connection with this application, Jiko Group, Inc., through its wholly-owned subsidiary, Jiko Securities, Inc., Berkeley, California, to engage de novo in agency transactional services for customers and investment transactions as principal, pursuant to sections 225.28(b)(7) and (b)(8), respectively, of Regulation Y. In addition, Jiko Group Inc., through its wholly-owned subsidiary, Jiko Technologies, Inc., Berkeley, California, and its wholly-owned subsidiary, Jiko Technologies Europe ehf, Reykjavik, Iceland, to engage de novo in data processing pursuant to section 225.28(b)(14) of Regulation Y.

Board of Governors of the Federal Reserve System, June 25, 2020.
Yao-Chin Chao,
Assistant Secretary of the Board.

[FR Doc. 2020-14066 Filed 6-29-20; 8:45 am]

BILLING CODE P